FEDERAL MARITIME COMMISSION

Notice of Agreements Filed

The Commission hereby gives notice of the filing of the following agreements under the Shipping Act of 1984. Interested parties may submit comments, relevant information, or documents regarding the agreements to the Secretary by email at Secretary@fmc.gov, or by mail, Federal Maritime Commission, Washington, DC 20573. Comments will be most helpful to the Commission if received within 12 days of the date this notice appears in the Federal Register. Copies of agreements are available through the Commission's website (www.fmc.gov) or by contacting the Office of Agreements at (202) 523-5793 or tradeanalysis@fmc.gov.

Agreement No.: 201355-001.

Agreement Name: NPDL/PFLG Slot Charter Agreement.

Parties: Neptune Pacific Direct Line Pte. Ltd. and Pacific Forum Line (Group) Limited.

Filing Party: David Monroe; GKG Law.

Synopsis: The amendment updates the commencement date of the slot charter arrangement.

Proposed Effective Date: 3/17/2021.

Location: https://www2.fmc.gov/FMC.Agreements.Web/Public/AgreementHistory/39509.

Agreement No.: 201356-001.

Agreement Name: PFLG/NPDL Slot Charter Agreement.

Parties: Neptune Pacific Direct Line Pte. Ltd. and Pacific Forum Line (Group) Limited.

Filing Party: David Monroe; GKG Law.

Synopsis: The amendment updates the commencement date of the slot charter arrangement.

Proposed Effective Date: 3/17/2021.

Location: https://www2.fmc.gov/FMC.Agreements.Web/Public/AgreementHistory/39510.

Agreement No.: 201358-001.

Agreement Name: NPDL/ANLS Slot Charter Agreement.

Parties: Neptune Pacific Direct Line Pte. Ltd. and ANL Singapore Pte Ltd.

Filing Party: David Monroe; GKG Law.

Synopsis: The amendment updates the commencement date of the slot charter arrangement.

Proposed Effective Date: 3/17/2021.

Location: https://www2.fmc.gov/FMC.Agreements.Web/Public/AgreementHistory/40502.

Dated: March 19, 2021.
Rachel E. Dickon,
Secretary.

[FR Doc. 2021-06098 Filed 3-23-21; 8:45 am]

Billing Code 3760-02